DEPARTMENT OF COMMERCE

International Trade Administration

[C-570-980]

Crystalline Silicon Photovoltaic Cells, Whether or Not Assembled Into Modules, From the People's Republic of China: Preliminary Results of Countervailing Duty Administrative Review; 2012; and Partial Rescission of Countervailing Duty Administrative Review

AGENCY: Enforcement and Compliance, International Trade Administration, Department of Commerce.

SUMMARY: The Department of Commerce (the Department) is conducting an administrative review of the countervailing duty (CVD) order on crystalline silicon photovoltaic cells, whether or not assembled into modules (Solar Cells), from the People's Republic of China (PRC). The period of review (POR) is March 26, 2012, through December 31, 2012. This review covers multiple exporters/producers, two of which are being individually reviewed as mandatory respondents. We preliminarily determine that Lightway Green New Energy Co., Ltd. (Lightway), Shanghai BYD Co. Ltd. (Shanghai BYD) and its cross-owned affiliates received countervailable subsidies during the POR. Interested parties are invited to comment on these preliminary results.

DATES: Effective Date: January 8, 2015.

FOR FURTHER INFORMATION CONTACT: Elfi Blum-Page, Lingjun Wang, or Andrew Huston, Office VII, AD/CVD Operations, Enforcement and Compliance, International Trade Administration, U.S. Department of Commerce, 14th Street and Constitution Avenue NW., Washington, DC 20230; telephone: (202) 482-0197, (202) 482-2316, and (202) 482-4261, respectively.

SUPPLEMENTARY INFORMATION:

Scope of the Investigation

The merchandise covered by this investigation is crystalline silicon photovoltaic cells, and modules, laminates, and panels, consisting of crystalline silicon photovoltaic cells, whether or not partially or fully assembled into other products, including, but not limited to, modules, laminates, panels and building integrated materials.¹

¹ For a full description of the scope of the order, see “Decision Memorandum for the Preliminary Results of the Countervailing Duty Administrative Review of Crystalline Silicon Photovoltaic Cells, Whether or Not Assembled Into Modules, from the People's Republic of China” from Gary Taverman, Associate Deputy Assistant Secretary for Antidumping and Countervailing Duty Operations to Paul Piquado, Assistant Secretary for Enforcement and Compliance (Preliminary Decision Memorandum), dated concurrently with these results and herby adopted by this notice.

Methodology

The Department is conducting this countervailing duty review in accordance with section 751(a)(1)(A) of the Tariff Act of 1930, as amended (the Act). For each of the subsidy programs found countervailable, we determine that there is a subsidy, i.e., a financial contribution by an “authority” that confers a benefit to the recipient, and that the subsidy is specific.² For a full description of the methodology underlying our preliminary conclusions, including our reliance, in part, on adverse facts available pursuant to sections 776(a) and (b) of the Act, see the Preliminary Decision Memorandum.³ The Preliminary Decision Memorandum is a public document and is on file electronically via Enforcement and Compliance's Antidumping and Countervailing Duty Centralized Electronic Service System (ACCESS).⁴ ACCESS is available to registered users at http://access.trade.gov, and is available to all parties in the Central Records Unit, room 7046 of the main Department of Commerce building. In addition, a complete version of the Preliminary Decision Memorandum can be accessed directly on the Internet at http://enforcement.trade.gov/frn/index.html. The signed Preliminary Decision Memorandum and the electronic versions of the Preliminary Decision Memorandum are identical in content.

² See sections 771(5)(B) and (D) of the Act regarding financial contribution; section 771(5)(E) of the Act regarding benefit; and, section 771(5A) of the Act regarding specificity.

³ See Preliminary Decision Memorandum. A list of topics discussed in the Preliminary Decision Memorandum can be found as an appendix to this notice.

⁴ On November 24, 2014, Enforcement and Compliance changed the name of Enforcement and Compliance's AD and CVD Centralized Electonic Service System (“IA ACCESS”) to AD and CVD Centralized Electronic Service System (ACCESS). The Web site location was changed from http://iaaccess.trade.gov to http://access.trade.gov. The Final Rule changing the references to the Regulations can be found at 79 FR 69046 (November 20, 2014).

Partial Rescission of the 2012 Administrative Review

Pursuant to 19 CFR 351.213(d)(1), the Department will rescind an administrative review, in whole or in part, if the parties that requested a review withdraw the request within 90 days of the date of publication of the notice of initiation. SolarWorld Industries America, Inc. (Petitioner) submitted the withdrawal of its review request within the deadline set forth under 19 CFR 351.213(d)(1). Therefore, in accordance with 19 CFR 351.213(d)(1), the Department is rescinding this review of the countervailing duty order on solar cells from the PRC with respect to the companies listed in Appendix II. No other party requested a review of any of the companies listed in Appendix II. The review will continue with respect to the other companies for which a review was requested: The mandatory respondents Lightway and Shanghai BYD, and the remaning companies not selected for individual review, listed in Appendix III.

Companies Not Selected for Individual Review

For the companies not selected for individual review (see Appendix III), because the rates calculated for Lightway and Shanghai BYD were above de minimis and not based entirely on facts available, we applied a subsidy rate based on a weighted average of the subsidy rates calculated for Lightway and Shanghai BYD using publicly ranged sales data submitted by respondents.

Preliminary Results of Review

As a result of this review, we preliminarily determine the countervailable subsidy rates to be:

Company | Subsidy rate (percent)
Lightway Green New Energy Co., Ltd | 22.73
Shanghai BYD Co. Ltd. and its cross-owned affiliates ⁵ | 8.63
Remaining Companies Subject to Review ⁶ | 15.68

Disclosure and Public Comment

⁵ Cross owned affiliates are Shangluo BYD Industrial Co., Ltd and BYD Company Limited, see Letter to the Department from Shanghai BYD, “Crystalline Silicon Photovoltaic Products: Reporting Companies and Affiliation Data,” (April 11, 2014).

⁶ See Appendix III.

The Department intends to disclose to interested parties the calculations performed in connection with this preliminary determination within five days of its public announcement.⁷ Interested parties may submit case and rebuttal briefs, as well as request a hearing.⁸ Interested parties may submit written comments (case briefs) within 30 days of publication of the preliminary results and rebuttal comments (rebuttal briefs) within five days after the time limit for filing case briefs.⁹ Rebuttal briefs must be limited to issues raised in the case briefs.¹⁰ Parties who submit case or rebuttal briefs are requested to submit with the argument: (1) A statement of the issue; (2) a brief summary of the argument; and (3) a table of authorities.¹¹

⁷ See 19 CFR 351.224(b).

⁸ See 19 CFR 351.309(c)-(d), 19 CFR 351.310(c).

⁹ See 19 CFR 351.309(c)(l)(ii) and 351.309(d)(l).

¹⁰ See 19 CFR 351.309(d)(2).

¹¹ See 19 CFR 351.309(c)(2) and (d)(2).

Interested parties who wish to request a hearing, or to participate if one is requested, must do so within 30 days of publication of these preliminary results by submitting a written request to the Assistant Secretary for Enforcement and Compliance, U.S. Department of Commerce, using Enforcement and Compliance's ACCESS system.¹² Requests should contain the party's name, address, and telephone number, the number of participants, and a list of the issues to be discussed. If a request for a hearing is made, we will inform parties of the scheduled date for the hearing which will be held at the U.S. Department of Commerce, 14th Street and Constitution Avenue NW., Washington, DC 20230, at a time and location to be determined.¹³ Parties should confirm by telephone the date, time, and location of the hearing. Issues addressed at the hearing will be limited to those raised in the briefs.¹⁴ All briefs and hearing requests must be filed electronically and received successfully in their entirety through ACCESS by 5:00 p.m. Eastern Time on the due date.

¹² See 19 CFR 351.310(c).

¹³ See 19 CFR 351.310.

¹⁴ See 19 CFR 351.310(c).

Unless the deadline is extended pursuant to section 751(a)(3)(A) of the Act, we intend to issue the final results of this administrative review, including the results of our analysis of the issues raised by the parties in their comments, within 120 days after issuance of these preliminary results.

Assessment Rates and Cash Deposit Requirement

In accordance with 19 CFR 351.221(b)(4)(i), we assigned a subsidy rate for each producer/exporter subject to this administrative review. Upon issuance of the final results, the Department shall determine, and U.S. Customs and Border Protection (CBP) shall assess, countervailing duties on all appropriate entries covered by this review. We intend to issue instructions to CBP 15 days after publication of the final results of review.

Pursuant to section 751(a)(2)(C) of the Act, the Department also intends to instruct CBP to collect cash deposits of estimated countervailing duties, in the amounts shown above for each of the respective companies shown above, on shipments of subject merchandise entered, or withdrawn from warehouse, for consumption on or after the date of publication of the final results of this review. For all non-reviewed firms, we will instruct CBP to continue to collect cash deposits at the most-recent company-specific or all-others rate applicable to the company, as appropriate. These cash deposit requirements, when imposed, shall remain in effect until further notice.

These preliminary results are issued and published in accordance with sections 751(a)(1) and 777(i)(1) of the Act, and 19 CFR 351.221(b)(4).

Dated: December 31, 2014.
Paul Piquado,
Assistant Secretary for Enforcement and Compliance.

Appendix I

List of Topics Discussed in the Preliminary Decision Memorandum

I. Summary

II. Background

III. Subsidies Valuation

IV. Use of Facts Otherwise Available and Adverse Inferences

V. Analysis of Programs

VI. Disclosure and Public Comment

VII. Conclusion

Appendix II

1. Aiko Solar

2. Amplesun Solar

3. Boading Tianwei Yingli New Energy Resources Co., Ltd.

4. Beijing Hope Industry

5. Best Solar Hi-tech

6. CEEG (Shanghai) Solar Science Technology Co., Ltd.

7. CEEG Nanjing Renewable Energy Co., Ltd.

8. China Sunergy (Nanjing) Co., Ltd.

9. China Sunergy

10. Chinalight Solar

11. CNPV Dongying Solar Power Co., Ltd.

12. Dai Hwa Industrial

13. EGing

14. ENN Solar Energy

15. General Solar Power

16. Golden Partner development

17. Goldpoly (Quanzhou)

18. Hairun Photovoltaics Technology Co., Ltd

19. Hareon Solar Technology

20. HC Solar Power Co., Ltd.

21. JA Solar Technology Yangzhou Co., Ltd.

22. Jetion Solar (China) Co., Ltd.

23. Jia Yi Energy Technology

24. Jiasheng Photovoltaic Tech.

25. Jiangxi Green Power Co. Ltd.

26. Jiawei Solar Holding

27. Jiawei Solarchina Co. (Shenzhen), Ltd

28. JingAo Solar Co., Ltd.

29. Jiutai Energy

30. Linuo Photovoltaic

31. Ningbo Komaes Solar Technology Co., Ltd.

32. Perfectenergy

33. Polar Photovoltaics

34. Qiangsheng (QS Solar)

35. QXPV (Ningbo Qixin Solar Electrical Appliance Co., Ltd)

36. Refine Solar

37. Risen Energy Co, Ltd.

38. Risun Solar (JiangXi Ruijing Solar Power Co., Ltd.)

39. Sanjing Silicon

40. Shanghai Chaori Solar Energy

41. Shanghai JA Solar Technology Co., Ltd.

42. Shanghai Solar Energy Science & Technology Co., Ltd.

43. Shangpin Solar

44. Shanshan Ulica

45. Shenzen Topray Solar Co., Ltd.

46. Shenzhen Global Solar Energy Tech.

47. Shuqimeng Energy Tech

48. Skybasesolar

49. Solargiga Energy Holdings Ltd.

50. Sunflower

51. Sunlink PV

52. Sunvim Solar Technology

53. Tainergy Tech

54. tenKsolar (Shanghai) Co., Ltd.

55. Tianjin Jinneng Solar Cell

56. Topsolar

57. Trony

58. Weihai China Glass Solar

59. Wuxi Sun-shine Power Co., Ltd.

60. Wuxi University Science Park International Incubator Co., Ltd.

61. Yuhan Sinosola Science & Technology Co., Ltd.

62. Yuhuan Solar Energy Source Co., Ltd.

63. Yunnan Tianda

64. Yunnan Zhuoye Energy

65. Zhejiang Top Point Photovoltaic Co., Ltd.

66. Zhejiang Wanxiang Solar Co, Ltd.

Appendix III

1. Baoding Jiansheng Photovoltaic Technology Co., Ltd.

2. Boading Tianwei Yingli New Energy Resources Co., Ltd.

3. Beijing Tianneng Yingli New Energy Resources Co. Ltd.

4. Canadian Solar International Limited.

5. Canadian Solar Manufacturing (Changshu) Inc.

6. Canadian Solar Manufacturing (Luoyang) Inc.

7. Changzhou NESL Solartech Co., Ltd.

8. Changzhou Trina Solar Energy Co., Ltd.

9. Chint Solar (Zhejiang) Co., Ltd.

10. CSG PVTech Co., Ltd.

11. DelSolar Co., Ltd.

12. De-Tech Trading Limited HK.

13. Dongfang Electric (Yixing) MAGI Solar Power Technology Co. Ltd.

14. Eoplly New Energy Technology Co., Ltd.

15. Era Solar Co., Ltd.

16. ET Solar Energy Limited

17. Hainan Yingli New Energy Resources Co., Ltd.

18. Hangzhou Zhejiang University Sunny Energy Science and Technology Co. Ltd.

19. Hendigan Group Dmegc Magnetics.

20. Hengshui Yingli New Energy Resources Co., Ltd.

21. Himin Clean Energy Holdings Co., Ltd.

22. Innovosolar.

23. Jiangsu Green Power PV Co., Ltd.

24. Jiangsu Jiasheng Photovoltaic Technology Co., Ltd.

25. Jiangsu Sunlink PV Technology Co., Ltd.

26. Jiawei Solar Holding.

27. Jinko Solar Co., Ltd.

28. Jinko Solar Import and Export Co., Ltd.

29. Jinko Solar International Limited.

30. Konca Solar Cell Co., Ltd.

31. Kuttler Automation Systems (Suzhou) Co. Ltd.

32. LDK Solar Hi-tech (Suzhou) Co., Ltd.

33. LDK Solar Hi-tech (Nanchang)

34. Leye Photovoltaic Science & Technology Co., Ltd.

35. Wuxi Suntech

36. Lixian Yingli New Energy Resources Co., Ltd.

[FR Doc. 2015-00110 Filed 1-7-15; 8:45 am]

BILLING CODE 3510-DS-P